GENERAL SERVICES ADMINISTRATION

48 CFR Parts 536 and 552

[Change 68; GSAR Case 2015-G508; Docket No. 2005-0013; Sequence No. 1]

RIN 3090-AI81

General Services Administration Acquisition Regulation (GSAR); Removal of Unnecessary Construction Clauses and Editorial Changes

AGENCY: Office of Acquisition Policy, General Services Administration (GSA)

ACTION: Final rule.

SUMMARY: This final rule amends the General Services Administration Acquisition Regulation (GSAR) coverage on Construction and Architect-Engineer Contracts, including provisions and clauses for solicitations and resultant contracts, to remove unnecessary regulations.

DATES: Effective: January 27, 2016.

FOR FURTHER INFORMATION CONTACT: For clarification of content, contact Ms. Christina Mullins, General Services Acquisition Policy Division, GSA, by phone at 202-969-4066 or by email at Christina.Mullins@gsa.gov. For information pertaining to status or publication schedules, contact the Regulatory Secretariat at 202-501-4755. Please cite GSAR case 2015-G508.

SUPPLEMENTARY INFORMATION:

I. Background

The General Services Administration (GSA) published a proposed rule in the Federal Register at 80 FR 45498 on July 30, 2015 to revise sections of GSAR Part 536, Construction and Architect-Engineer Contracts, and Part 552, Solicitation Provisions and Contract Clauses, to remove unnecessary construction clauses. No comments were received on the proposed rule.

II. Discussion of Analysis

No changes were made to the rule as there were no comments received.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

IV. Regulatory Flexibility Act

GSA does not expect this final rule to have a significant economic impact on a substantial number of small entities within the meaning of the Regulatory Flexibility Act, at 5 U.S.C. 601, et.seq., because the rule only deletes unnecessary sections and clauses and does not contain substantive changes. However, a Final Regulatory Flexibility Analysis (FRFA) has been prepared.

There were no comments submitted in response to the initial regulatory flexibility analysis provided in the proposed rule. The final rule changes will not have a significant economic impact on a substantial number of small entities. The rule changes do not place any new requirements on small entities. The section, provision and clause associated with project labor agreement is no longer a requirement based on Executive Order 13202 and because Executive Order 13502 was incorporated into FAR Subpart 22.5. The provisions and associated clauses for specialist, working hours, use of premises, measurements, samples, heat, and government use of equipment are considered technical requirements that are contained in the scope of work or specifications.

Interested parties may obtain a copy of the FRFA from the Regulatory Secretariat. The Regulatory Secretariat has submitted a copy of the FRFA to the Chief Counsel for Advocacy of the Small Business Administration.

V. Paperwork Reduction Act

This final rule does not contain any information collection requirements that require the approval of the Office of Management and Budget under the Paperwork Reduction Act (44 U.S.C. chapter 35).

List of Subjects in 48 CFR Parts 536 and 552

Government procurement.

Dated: January 15, 2016.
Jeffrey A. Koses,
Senior Procurement Executive, Office of Acquisition Policy, Office of Government-wide Policy.

Therefore, GSA amends 48 CFR parts 536 and 552 as set forth below:

PART 536—CONSTRUCTION AND ARCHITECT-ENGINEER CONTRACTS

1. The authority citation for 48 CFR part 536 continues to read as follows:

Authority: 40 U.S.C. 121(c).

2. Revise section 536.101 to read as follows:

536.101 Applicability.

This part supplements FAR Part 36 policies and procedures applicable to contracting for construction and architect-engineer services. Contracts for construction management services are covered by FAR Part 37 and GSAM Part 537. Part 536 shall take precedence when the acquisition involves (1) construction or architect-engineer services, and (2) when the requirement is inconsistent with another part of the GSAR.

536.271 [Removed]

3. Remove section 536.271.

536.570-3 [Removed and Reserved]

4. Remove and reserve section 536.570-3.

536.570-5 through 536.570-7 [Removed and Reserved]

5. Remove and reserve sections 536.570-5 through 536.570-7.

536.570-10 and 536.570-11 [Removed and Reserved]

6. Remove and reserve sections 536.570-10 and 536.570-11.

536.570-14 [Removed]

7. Remove section 536.570-14.

PART 552—SOLICITATION PROVISIONS AND CONTRACT CLAUSES

8. The authority citation for 48 CFR part 552 continues to read as follows:

Authority: 40 U.S.C. 121(c).

552.236-72 [Removed and Reserved]

9. Remove and reserve section 552.236-72.

552.236-74 through 552.236-76 [Removed and Reserved]

10. Remove and reserve sections 552.236-74 through 552.236-76.

552.236-79 and 552.236-80 [Removed and Reserved]

11. Removed and reserve sections 552.236-79 and 552.236-80.

552.236-83 [Removed]

12. Remove section 552.236-83.

[FR Doc. 2016-01422 Filed 1-26-16; 8:45 am]

BILLING CODE 6820-61-P